DEPARTMENT OF COMMERCE

Bureau of Economic Analysis

[Docket No. 130111033-3033-01]

XRIN 0691-XC004

BE-29: Survey of Foreign Ocean Carriers' Expenses in the United States

AGENCY: Bureau of Economic Analysis, Commerce.

ACTION: Notice of reporting requirements.

SUMMARY: By this Notice, the Bureau of Economic Analysis (BEA), Department of Commerce is informing the public that it is conducting the mandatory survey titled Survey of Foreign Ocean Carriers' Revenues and Expenses in the United States (BE-29). This mandatory survey is conducted under the authority of the International Investment and Trade in Services Survey Act (22 U.S.C. 3101-3108, as amended). This Notice constitutes legal notification to all United States persons (defined below) who meet the reporting requirements set forth in this Notice that they must respond to, and comply with, the survey. Reports are due 90 days after the end of each calendar year. The BE-29 survey forms and instructions are available on the BEA Web site at www.bea.gov/surveys/iussurv.htm.

Definitions

(a) Person means any individual, branch, partnership, associated group, association, estate, trust, corporation, or other organization (whether or not organized under the laws of any State), and any government (including a foreign government, the United States Government, a State or local government, and any agency, corporation, financial institution, or other entity or instrumentality thereof, including a government-sponsored agency).

(b) United States person means any person resident in the United States or subject to the jurisdiction of the United States.

(c) Foreign person means any person resident outside the United States or subject to the jurisdiction of a country other than the United States.

(d) Carriers means owners or operators of dry cargo, passenger (including cruise and combination) and tanker vessels, including very large crude carriers (VLCCs), calling at U.S. ports.

(e) Foreign Carriers means those carriers whose residence is outside the United States, including those who own or operate their own chartered (U.S.-flag or foreign-flag) vessels. They also include foreign subsidiaries of U.S. companies operating their own or chartered vessels as carriers for their own accounts.

Who Must Report: Reports are required from U.S. agents of foreign carriers who: (a) handle 40 or more port calls in the reporting period by foreign ocean vessels, or (b) have total annual covered expenses for all foreign ocean vessels handled by the U.S. agent of $250,000 or more. Entities required to report will be contacted individually by BEA. Entities not contacted by BEA have no reporting responsibilities.

What To Report: This survey is intended to collect information on foreign ocean carriers' expenses in the United States.

How To Report: Reports can be filed via BEA's electronic reporting system at www.bea.gov/efile. Additionally, copies of the survey forms and instructions, which contain complete information on reporting procedures and definitions, can be obtained from the BEA Web site given above in the Summary. Inquiries can be made to BEA at (202) 606-5588.

When To Report: Reports are due to BEA 90 days after the end of each calendar year.

Paperwork Reduction Act Notice: This data collection has been approved by the Office of Management and Budget (OMB) in accordance with the Paperwork Reduction Act and assigned control number 0608-0012. An agency may not conduct or sponsor, and a person is not required to respond to, a collection of information unless it displays a valid control number assigned by OMB. The estimated average annual public reporting burden for this collection of information is 3 hours per response. Send comments regarding this burden estimate to Director, Bureau of Economic Analysis (BE-1), U.S. Department of Commerce, Washington, DC 20230; and to the Office of Management and Budget, Paperwork Reduction Project 0608-0012, Washington, DC 20503.

J. Steven Landefeld,
Director, Bureau of Economic Analysis.

[FR Doc. 2013-01346 Filed 1-23-13; 8:45 am]

BILLING CODE 3510-06-P